DEPARTMENT OF HEALTH AND HUMAN SERVICES

Administration on Aging

Agency Information Collection Activities; Proposed Collection; Comment Request; Alzheimer's Disease Demonstration Grants to States Program Standardized Data Collection

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to Alzheimer's Disease Demonstration Grants to States Program

DATES: Submit written or electronic comments on the collection of information by February 6, 2007.

ADDRESSES: Submit electronic comments on the collection of information to: Lori.Stalbaum@aoa.hhs.gov. Submit written comments on the collection of information to Administration on Aging, Washington, DC 20201, ATTN: Lori Stalbaum.

FOR FURTHER INFORMATION CONTACT: Lori Stalbaum at 202-357-3452 or e-mail: lori.stalbaum@aoa.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Alzheimer's Disease Demonstration Grants to States (ADDGS) Program is authorized through Sections 398, 399 and 399A of the Public Health Service (PHS) Act, as amended by Public Law 101-557 Home Health Care and Alzheimer's Disease Amendments of 1990. The ADDGS program funded through AoA helps states extend family support services provided by subgrantees to underserved populations, including those in rural communities.

The PHS Act requires AoA to “provide for an evaluation of each demonstration project for which a grant is made.” The PHS Act further states that “not later than 6 months after the completion of such evaluations, submit a report to the Congress describing the findings made as a result of the evaluations.” In compliance with the PHS Act, AoA developed a new State data collection protocol that will require future ADDGS state grantees (those funded starting in FY 2007) to transmit annual data information to AoA reported to the states by the project partners. Many of the elements for the ADDGS Data Program Report are the same as those collected for Older Americans Act Title III and Title VII programs administered by AoA. To ensure inclusion of essential information the ADDGS Project Officer first contacted all current ADDGS grantees to find out what type of information they are already collecting. Then, the ADDGS Project Officer solicited information on key data elements from experts familiar with the previous ADDGS Program evaluation. Following this input, modifications were made to the data collection tool and input was solicited from all ADDGS state Project Directors and their project partners. Twenty-three (23) of thirty-eight (38) states, approximately 60% responded to the request for feedback. Again, modifications were made to fine tune the data collection tool into a format that would minimize burden on state grantees. Finally, ten (10) ADDGS Project Directors participated in a telephone focus group. The ten Project Directors were selected based on the detail of their responses to the original request for feedback.

The result of this input is the proposed data collection tool and accompanying definition of terms. AoA is aware that different states have different capabilities in terms of data collection. Thus, it is understood that following the approval of the proposed ADDGS data collection tool, AoA will need to work with ADDGS grantees to ensure easy access to a reporting system as well as offer regular training to state grantees to ensure minimal burden.

AoA estimates the burden of this collection of information as follows: 950 hours.

Dated: December 5, 2006.
Josefina G. Carbonell,
Assistant Secretary for Aging.

[FR Doc. E6-20890 Filed 12-7-06; 8:45 am]

BILLING CODE 4154-01-P